NUCLEAR REGULATORY COMMISSION

[Docket No. 50-285]

Omaha Public Power District (OPPD) Fort Calhoun Station, Unit 1 Notice of Receipt of Application for Renewal of Facility Operating License No. DPR-40 for an Additional 20-Year Period

On January 11, 2002, the U.S. Nuclear Regulatory Commission received, by letter dated January 9, 2002, an application from the Omaha Public Power District (OPPD), filed pursuant to section 104b of the Atomic Energy Act of 1954, as amended, and 10 CFR part 54, which authorizes the applicant to operate the Fort Calhoun Station, Unit 1 (FCS), for an additional 20-year period. The current operating license for FCS expires on August 9, 2013. FCS is a pressurized water reactor designed by Combustion Engineering and is located in Washington County, Nebraska. The acceptability of the tendered application for docketing and other matters, including an opportunity to request a hearing, will be the subject of a subsequent Federal Register notice.

Copies of the application are available for public inspection at the Commission's Public Document Room, located at One White Flint North, 11555 Rockville Pike (first floor), Rockville, Maryland, or electronically from the Publicly Available Records (PARS) component of the NRC's Agencywide Documents Access and Management System (ADAMS). The ADAMS Public Electronic Reading Room is accessible from the NRC Web site at http://www.nrc.gov/NRC/ADAMS/index.html. If you do not have access to ADAMS, or if there are problems in accessing the documents located in ADAMS, contact the NRC Public Document Room (PDR) Reference staff at 1-800-397-4209, 301-415-4737 or by e-mail to pdr@nrc.gov.

The license renewal application for the Fort Calhoun Station is also available to local residents at the Blair Public Library in Blair, NE, and the W. Dale Clark Library in Omaha, NE.

Dated at Rockville, Maryland, the 6th of February, 2002.
For the Nuclear Regulatory Commission.
Christopher I. Grimes,
Program Director, License Renewal and Environmental Impact Program, Division of Regulatory Improvement Programs, Office of Nuclear Reactor Regulation.

[FR Doc. 02-3368 Filed 2-11-02; 8:45 am]

BILLING CODE 7590-01-P